DEPARTMENT OF COMMERCE

International Trade Administration

Agency Information Collection Activities; Submission to the Office of Management and Budget (OMB) for Review and Approval; Comment Request; Steel Import License

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 6, 2023, during a 60-day comment period. This notice allows for an additional 30 days for public comments.

Agency: International Trade Administration, Department of Commerce.

Title: Aluminum Import License.

OMB Control Number: 0625-0279.

Form Number(s): ITA-4142a (regular license); ITA-4142b (low-value license).

Type of Request: Regular submission. Extension of a currently approved information collection.

Number of Respondents: 4,000.

Average Hours per Response: Less than 10.5 minutes.

Burden Hours: 35,633 hours, including 525 burden hours for low-value licenses.

Needs and Uses: In order to monitor aluminum imports in real-time and to provide the public with real-time data, the Department of Commerce must collect and provide timely aggregated summaries about these imports. The Aluminum Import License is the tool used to collect the necessary information. The Census Bureau currently collects import data and disseminates aggregate information about aluminum imports. However, the time required to collect, process, and disseminate this information through Census can take up to 45 days after importation of the product, giving interested parties and the public far less time to respond to injurious sales.

Affected Public: Business or other for-profit organizations.

Frequency: On occasion

Respondent's Obligation: Voluntary.

Legal Authority: 13 U.S.C. 301(a) and 302.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0625-0279.

Sheleen Dumas,
Department PRA Clearance Officer, Office of the Under Secretary for Economic Affairs, Commerce Department.

[FR Doc. 2023-27249 Filed 12-11-23; 8:45 am]

BILLING CODE 3510-DS-P